COMMISSION ON CIVIL RIGHTS

Sunshine Act Meetings

AGENCY: United States Commission on Civil Rights.

ACTION: Notice of Commission business meeting.

DATES: Friday, April 11, 2025, 10 a.m. eastern standard time.

ADDRESSES: Meeting to take place in person and is open to the public.

U.S. Commission on Civil Rights, 1331 Pennsylvania Ave. NW, Suite 1150, Washington, DC 20425.

The meeting will also be livestreamed on the Commission's YouTube page: https://www.youtube.com/user/USCCR/videos.

FOR FURTHER INFORMATION CONTACT: Joe Kim: 202-499-0263; publicaffairs@usccr.gov.

SUPPLEMENTARY INFORMATION: In accordance with the Government in Sunshine Act (5 U.S.C. 552b), the Commission on Civil Rights is holding a meeting to discuss the Commission's business for the month of April. This business meeting is open to the public. Computer assisted real-time transcription (CART) will be provided. The web link to access CART (in English) on Friday, April 11, 2025, is https://www.streamtext.net/player?event=USCCR. Please note that CART is text-only translation that occurs in real time during the meeting and is not an exact transcript.

Business Meeting Agenda

I. Approval of Agenda

II. Business Meeting

a. Presentation by District of Columbia Advisory Committee Chair on Accessing Services for Students with Disabilities in DC Public Schools

b. Presentation by Pennsylvania Advisory Committee Chair on The Rising use of Artificial Intelligence in K-12 Education

c. Discussion and Vote on State Advisory Committee Appointments

III. Management and Operations

a. Staff Director's Report

IV. Adjourn Meeting

Dated: April 4, 2025.
David Mussatt,
Supervisory Chief, Regional Programs Unit.

[FR Doc. 2025-06097 Filed 4-4-25; 4:15 pm]

BILLING CODE 6335-01-P